CONSUMER PRODUCT SAFETY COMMISSION

Petition Requesting Banning of Baby Bath Seats

AGENCY: Consumer Product Safety Commission.

ACTION: Notice.

SUMMARY: The Commission has received a petition (HP 00-4) requesting that the Commission ban bath seats and bath rings used for bathing infants in bathtubs. The Commission solicits written comments concerning the petition.

DATES: The Office of the Secretary must receive comments on the petition by October 23, 2000.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition HP 00-4, Petition to Ban Bath Seats.” A copy of the petition is available for inspection at the Commission's Public Reading Room, Room 419, 4330 East-West Highway, Bethesda, Maryland.

FOR FURTHER INFORMATION CONTACT: Rockelle Hammond, Office of the Secretary, Consumer Product Safety Commission, Washington, D.C. 20207; telephone (301) 504-0800, ext. 1232.

SUPPLEMENTARY INFORMATION: The Commission has received correspondence from The Consumer Federation of America (“CFA”) and other consumer groups requesting that the Commission issue a rule banning baby bath seats and bath rings. The petitioners assert that these products pose an unreasonable risk of injury primarily by giving parents and other caregivers a false sense of security that children using the products will be safe in the bathtub. They argue that recent research indicates that parents using bath seats are more likely to engage in “risk-taking behavior,” such as leaving the infant alone briefly and using more water in the bathtub, than caregivers who do not use bath seats. The petitioners state that, to date, 66 incidents of drowning and 37 reports of near drowning involving bath seats have been identified. The Commission is docketing the correspondence as a petition under provisions of the Federal Hazardous Substances Act, 15 U.S.C. 1261-1278.

Interested parties may obtain a copy of the petition by writing or calling the Office of the Secretary, Consumer Product Safety Commission, Washington, DC 20207; telephone (301) 504-0800. A copy of the petition is also available for inspection from 8:30 a.m. to 5 p.m., Monday through Friday, in the Commission's Public Reading Room, Room 419, 4330 East-West Highway, Bethesda, Maryland.

Dated: August 16, 2000.
Sadye E. Dunn,
Secretary, Consumer Product Safety Commission

[FR Doc. 00-21257 Filed 8-21-00; 8:45 am]

BILLING CODE 6355-01-P